DEPARTMENT OF AGRICULTURE

Submission for OMB Review; Comment Request

December 6, 2007.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Enhancing Food Stamps: Food Stamp Modernization Efforts.

OMB Control Number: 0584-NEW.

Summary of Collection: The Food Stamp Program (FSP) provides low-income individuals and families with assistance to purchase eligible food items for the home consumption through state-operated programs. Over the past decade, increased awareness of the importance of the FSP as a basic nutritional safety net, as well as a critical work support, has led to a variety of federal and state efforts to increase program access and participation. Congress has allocated funds for the purpose of evaluating and collecting data on the FSP as part of Section 17(a)(1) of the Food Stamp Act of 1977, as amended through Public Law 106-171, February 11, 2000. The Food and Nutrition Service (FNS) plans to systematically examine the range of efforts States are undertaking to enhance food stamp certification and modernize the FSP.

Need and Use of the Information: FNS will initiate a comprehensive study to: (1) Develop a national inventory of FSP modernization efforts across states; (2) document key features and outcomes associated with food stamp modernization; (3) systematically describe and compare techniques states are using to modernize the FSP; and (4) identify promising practices. Without this study, FNS and state food stamp agencies will have to rely on the information that is provided for individual modernization initiatives.

Description of Respondents: Individual or households; Not-for-profit institutions; Business or other for-profit; State, Local or Tribal Government.

Number of Respondents: 1,107.

Frequency of Responses: Reporting: Other (one time only).

Total Burden Hours: 1,869.

Ruth Brown,
Departmental Information Collection Clearance Officer.

[FR Doc. E7-23938 Filed 12-10-07; 8:45 am]

BILLING CODE 3410-30-P